PENSION BENEFIT GUARANTY CORPORATION

Submission of Information Collection for OMB Review; Comment Request; Disclosure to Participants

AGENCY: Pension Benefit Guaranty Corporation.

ACTION: Notice of request for extension of OMB approval.

SUMMARY: The Pension Benefit Guaranty Corporation (“PBGC”) is requesting that the Office of Management and Budget (“OMB”) extend approval, under the Paperwork Reduction Act, of a collection of information in its regulation on Disclosure to Participants (29 CFR Part 4011) (OMB control number 1212-0050). This notice informs the public of the PBGC's request and solicits public comment on the collection of information.

DATES: Comments should be submitted by December 26, 2006.

ADDRESSES: Comments may be mailed to the Office of Information and Regulatory Affairs of the Office of Management and Budget, Attention: Desk Officer for Pension Benefit Guaranty Corporation, Washington, DC 20503. Copies of the request for extension may be obtained without charge by writing to the Disclosure Division of the Office of the General Counsel of PBGC at 1200 K Street, NW., 11th Floor, Washington, DC 20005-4026, or by visiting or calling (202-326-4040) the Disclosure Division during normal business hours. (TTY and TDD users may call the Federal relay service toll-free at 1-800-877-8339 and ask to be connected to 202-326-4040.) The regulation on Disclosure to Participants can be accessed on the PBGC's Web site at http://www.pbgc.gov.

FOR FURTHER INFORMATION CONTACT: Jo Amato Burns, Attorney, Legislative and Regulatory Department, Pension Benefit Guaranty Corporation, 1200 K Street, NW, Washington, DC 20005-4026, 202-326-4024. (TTY and TDD users may call the Federal relay service toll-free at 1-800-877-8339 and ask to be connected to 202-326-4024.)

SUPPLEMENTARY INFORMATION: Section 4011 of the Employee Retirement Income Security Act of 1974 requires plan administrators of certain underfunded single-employer pension plans to provide an annual notice to plan participants and beneficiaries of the plan's funding status and the limits on the PBGC's guarantee. The PBGC's regulation implementing this provision (29 CFR Part 4011) prescribes which plans are subject to the notice requirement, who is entitled to receive the notice, and the time, form, and manner of issuance of the notice. The notice provides recipients with meaningful, understandable, and timely information that will help them become better informed about their plans and assist them in their financial planning.

The Pension Protection Act of 2006 repealed section 4011 of ERISA for plan years starting after 2006. However, plan administrators of non-calendar year plans required to provide a Participant Notice for the 2006 plan year will, in most cases, provide those notices in calendar year 2007. In addition, PBGC expects that during the next three years a small number of plan administrators will issue late or corrected Participant Notices for 2006 or earlier plan years.

The collection of information under the regulation has been approved by OMB under control number 1212-0050 (expires December 31, 2006). The PBGC is requesting that OMB extend its approval for three years. An agency may not conduct or sponsor, and a person is not required to respond to, a collection of information unless it displays a currently valid OMB control number.

The PBGC estimates that an average of 764 Participant Notices per year will be filed by plan administrators in response to this collection of information. PBGC further estimates that the average annual burden of this collection of information on respondents is 1.38 hours and $380 per plan, with an average total annual burden of 1,057 hours and $290,675.

Issued in Washington, DC, this 20th day of November, 2006.
Jon Baake,
Acting Chief Technology Officer, Pension Benefit Guaranty Corporation.

[FR Doc. E6-19854 Filed 11-22-06; 8:45 am]

BILLING CODE 7709-01-P